DEPARTMENT OF LABOR

Mine Safety and Health Administration

Summary of Decisions Granting in Whole or in Part Petitions for Modification

AGENCY: Mine Safety and Health Administration (MSHA), Labor.

ACTION: Notice of affirmative decisions issued by the administrators for coal mine safety and health and metal and nonmetal mine safety and health on petitions for modification of the application of existing safety standards.

SUMMARY: Under section 101 of the Federal Mine Safety and Health Act of 1977, the Secretary of Labor (Secretary) may allow the modification of the application of an existing safety standard to a mine if the Secretary determines either that an alternate method exists at a specific mine that will guarantee no less protection for the miners affected than that provided by the standard, or that the application of the standard at a specific mine will result in a diminution of safety to the affected miners.

Final decisions on these petitions are based upon the petitioner's statements, comments and information submitted by interested persons, and a field investigation of the conditions at the mine. MSHA, as designee of the Secretary, has granted or partially granted the requests for modification listed below. In some instances, the decisions are conditioned upon compliance with stipulations stated in the decision. The term “FR Notice” appears in the list of affirmative decisions below. The term refers to the Federal Register volume and page where MSHA published a notice of the filing of the petition for modification.

FOR FURTHER INFORMATION CONTACT: Petitions and copies of the final decisions are available for examination by the public in the Office of Standards, Regulations, and Variances, MSHA, Room 627, 4015 Wilson Boulevard, Arlington, Virginia 22203. Contact Barbara Barron at 703-235-1910.

Dated at Arlington, Virginia, this 11th day of October, 2001.
David L. Meyer,
Director, Office of Standards, Regulations, and Variances.

Affirmative Decisions on Petitions for Modification

Docket No.: M-2001-002-C.

FR Notice: 66 FR 18658.

Petitioner: Kentucky May Mining.

Regulation Affected: 30 CFR 75.503 (18.41(f) of part 18).

Summary of Findings: Petitioner's proposal is to use a spring-loaded device with specific fastening characteristics in lieu of a padlock with its fastening configuration to secure plugs and electrical type connectors to batteries and to the permissible mobile powered equipment the batteries serve to prevent accidental separation of the battery plugs from their receptacles during normal operation of the battery equipment. This is considered an acceptable alternative method for the Genesis Mine. MSHA grants the petition for modification the Genesis Mine with conditions.

Docket No.: M-2001-003-C.

FR Notice: 66 FR 18658.

Petitioner: Eagle Coal Company, Inc.

Regulation Affected: 30 CFR 75.503 (18.41(f) of part 18).

Summary of Findings: Petitioner's proposal is to use a spring-loaded device with specific fastening characteristics in lieu of a padlock with its fastening configuration to secure plugs and electrical type connectors to batteries and to the permissible mobile powered equipment the batteries serve to prevent accidental separation of the battery plugs from their receptacles during normal operation of the battery equipment. This is considered an acceptable alternative method for the No. 18 Mine. MSHA grants the petition for modification for the No. 18 Mine with conditions.

Docket No.: M-2001-004-C.

FR Notice: 66 FR 18658.

Petitioner: Long Fork Development, Inc.

Regulation Affected: 30 CFR 75.503 (18.41(f) of part 18).

Summary of Findings: Petitioner's proposal is to use a spring-loaded device with specific fastening characteristics in lieu of a padlock with its fastening configuration to secure plugs and electrical type connectors to batteries and to the permissible mobile powered equipment the batteries serve to prevent accidental separation of the battery plugs from their receptacles during normal operation of the battery equipment. This is considered an acceptable alternative method for the No. 5 Mine. MSHA grants the petition for modification for the No. 5 Mine with conditions.

Docket No.: M-2001-005-C.

FR Notice: 66 FR 18658.

Petitioner: Taurus Coal Company, Inc.

Regulation Affected: 30 CFR 75.503 (18.41(f) of part 18).

Summary of Findings: Petitioner's proposal is to use a spring-loaded device with specific fastening characteristics in lieu of a padlock with its fastening configuration to secure plugs and electrical type connectors to batteries and to the permissible mobile powered equipment the batteries serve to prevent accidental separation of the battery plugs from their receptacles during normal operation of the battery equipment. This is considered an acceptable alternative method for the No. 8 Mine. MSHA grants the petition for modification for the No. 8 Mine with conditions.

Docket No.: M-2001-006-C.

FR Notice: 66 FR 18658.

Petitioner: Coalburg Enterprises, Inc.

Regulation Affected: 30 CFR 75.503 (18.41(f) of part 18).

Summary of Findings: Petitioner's proposal is to use a spring-loaded device with specific fastening characteristics in lieu of a padlock with its fastening configuration to secure plugs and electrical type connectors to batteries and to the permissible mobile powered equipment the batteries serve to prevent accidental separation of the battery plugs from their receptacles during normal operation of the battery equipment. This is considered an acceptable alternative method for the No. 1 Mine. MSHA grants the petition for modification for the No. 1 Mine with conditions.

Docket No.: M-2001-007-C.

FR Notice: 66 FR 18659.

Petitioner: Beech Fork Processing, Inc.

Regulation Affected: 30 CFR 75.503 (18.41(f) of part 18).

Summary of Findings: Petitioner's proposal is to use a spring-loaded device with specific fastening characteristics in lieu of a padlock with its fastening configuration to secure plugs and electrical type connectors to batteries and to the permissible mobile powered equipment the batteries serve to prevent accidental separation of the battery plugs from their receptacles during normal operation of the battery equipment. This is considered an acceptable alternative method for the No. 3 Mine. MSHA grants the petition for modification for the No. 3 Mine with conditions.

Docket No.: M-2001-008-C.

FR Notice: 66 FR 18659.

Petitioner: Beech Fork Processing, Inc.

Regulation Affected: 30 CFR 75.503 (18.41(f) of part 18).

Summary of Findings: Petitioner's proposal is to use a spring-loaded device with specific fastening characteristics in lieu of a padlock with its fastening configuration to secure plugs and electrical type connectors to batteries and to the permissible mobile powered equipment the batteries serve to prevent accidental separation of the battery plugs from their receptacles during normal operation of the battery equipment. This is considered an acceptable alternative method for the No. 2 Mine. MSHA grants the petition for modification for the No. 2 Mine with conditions.

Docket No.: M-2001-009-C.

FR Notice: 66 FR 18659.

Petitioner: Eagle Coal Company, Inc.

Regulation Affected: 30 CFR 75.503 (18.41(f) of part 18).

Summary of Findings: Petitioner's proposal is to use a spring-loaded device with specific fastening characteristics in lieu of a padlock with its fastening configuration to secure plugs and electrical type connectors to batteries and to the permissible mobile powered equipment the batteries serve to prevent accidental separation of the battery plugs from their receptacles during normal operation of the battery equipment. This is considered an acceptable alternative method for the No. 7 Mine. MSHA grants the petition for modification for the No. 7 Mine with conditions.

Docket No.: M-2001-013-C.

FR Notice: 66 FR 28932.

Petitioner: Big Ridge, Inc.

Regulation Affected: 30 CFR 75.503 18.41(f) of part 18).

Summary of Findings: Petitioner's proposal is to use a spring-loaded device with specific fastening characteristics in lieu of a padlock with its fastening configuration to secure plugs and electrical type connectors to batteries and to the permissible mobile powered equipment the batteries serve to prevent accidental separation of the battery plugs from their receptacles during normal operation of the battery equipment. This is considered an acceptable alternative method for the Willow Lake Portal Mine. MSHA grants the petition for modification for the Willow Lake Portal Mine with conditions.

Docket No.: M-2001-016-C.

FR Notice: 66 FR 28932.

Petitioner: Goodin Creek Contracting, Inc.

Regulation Affected: 30 CFR 75.342.

Summary of Findings: Petitioner's proposal is to use a hand-held continuous multi-gas detector, which detects oxygen, methane, and carbon monoxide, in lieu of a machine mounted methane monitor for the three wheel tractors (Mescher tractors). This is considered an acceptable alternative method for the Goodin Creek #2 Mine. MSHA grants the petition for modification for the Goodin Creek #2 Mine with conditions.

Docket No.: M-2001-028-C.

FR Notice: 66 FR 30232.

Petitioner: DLR Mining, Inc.

Regulation Affected: 30 CFR 75.1100-2(e)(2).

Summary of Findings: Petitioner's proposal is to use two (2) fire extinguishers or one fire extinguisher of twice the required capacity at all temporary electrical installations instead of using 240 pounds of rock dust. This is considered an acceptable alternative method for the Nolo Mine. MSHA grants the petition for modification for the Nolo Mine with conditions.

Docket No.: M-2001-033-C.

FR Notice: 66 FR 30232.

Petitioner: American Energy Corporation.

Regulation Affected: 30 CFR 75.350.

Summary of Findings: Petitioner's proposal is to use air coursed through belt haulage entries to ventilate active working places. This is considered an acceptable alternative method for the Century Mine. MSHA grants the petition for modification for the Century Mine with conditions.

Docket No.: M-2001-038-C.

FR Notice: 66 FR 30233.

Petitioner: Faith Coal Sales, Inc.

Regulation Affected: 30 CFR 75.503 (18.41(f) of part 18).

Summary of Findings: Petitioner's proposal is to use a spring-loaded device with specific fastening characteristics in lieu of a padlock with its fastening configuration to secure plugs and electrical type connectors to batteries and to the permissible mobile powered equipment the batteries serve to prevent accidental separation of the battery plugs from their receptacles during normal operation of the battery equipment. This is considered an acceptable alternative method for the White Star No. 1 Mine. MSHA grants the petition for modification for the White Star No. 1 Mine with conditions.

Docket No.: M-2001-042-C.

FR Notice: 66 FR 30234.

Petitioner: Branham & Baker Underground Corp.

Regulation Affected: 30 CFR 75.503 (18.41(f) of part 18).

Summary of Findings: Petitioner's proposal is to use a spring-loaded device with specific fastening characteristics in lieu of a padlock with its fastening configuration to secure plugs and electrical type connectors to batteries and to the permissible mobile powered equipment the batteries serve to prevent accidental separation of the battery plugs from their receptacles during normal operation of the battery equipment. This is considered an acceptable alternative method for the Mine No. 2B, Mine No. 10, Mine No. 15, and Mine No. 22. MSHA grants the petition for modification for the Mine No. 2B, Mine No. 10, Mine No. 15, and Mine No. 22 with conditions.

Docket No.: M-2000-008-C.

FR Notice: 65 FR 10563.

Petitioner: Island Creek Coal Company.

Regulation Affected: 30 CFR 75.1100-2(b).

Summary of Findings: Petitioner's proposal is to install a waterline in an entry adjacent to the conveyor belt entry on retreating longwalls equipped with fire hydrants spaced no more than 310 feet apart instead of the current operating procedures granted under a previous petition for modification (M-94-68-C) allowing for hydrants to be spaced no more than 270 feet apart in these entries. This is considered an acceptable alternative method for the VP-8 Mine. MSHA grants the petition for modification for the VP-8 Mine with conditions.

Docket No.: M-2000-015-C.

FR Notice: 65 FR 16966.

Petitioner: RAG Cumberland Resources, LP.

Regulation Affected: 30 CFR 75.503 (Schedule 2G, § 18.35).

Summary of Findings: Petitioner's proposal is to use a 1,000 foot trailing cable on full-face continuous miners and other face equipment during development mining. This is considered an acceptable alternative method for the Cumberland Mine. MSHA grants the petition for modification for the Cumberland Mine with conditions.

Docket No.: M-2000-018-C.

FR Notice: 65 FR 16966.

Petitioner: FKZ Coal, Inc.

Regulation Affected: 30 CFR 75.1200(d) and (i).

Summary of Findings: Petitioner's proposal is to use cross-sections instead of contour lines through the intake slope, at locations of rock tunnel connections between veins, and at 1,000 foot intervals of advance from the intake slope; and to limit the required mapping of the mine workings above and below to those present within 100 feet of the vein being mined except when veins are interconnected to other veins beyond the 100-foot limit through rock tunnels. This is considered an acceptable alternative method for the Mercury No. 1 Slope Mine. MSHA grants the petition for modification for the No. 1 Slope Mine with conditions.

Docket No.: M-2000-031-C.

FR Notice: 65 FR 31611.

Petitioner: Genwal Resources, Inc.

Regulation Affected: 30 CFR 75.500(b).

Summary of Findings: Petitioner's proposal is to use non-permissible low-voltage or battery powered electronic testing and diagnostic equipment such as lap top computers, oscilloscopes, vibration analysis machines, cable fault detectors, point temperature probes, infrared temperature devices and recorders, pressure and flow measurement devices, signal analyzer devices ultrasonic thickness gauges, electronic component testers, electronic tachometers and battery operated drills, in or inby the last open crosscut. This is considered an acceptable alternative method for the Crandall Canyon Mine. MSHA grants the petition for modification for the Crandall Canyon Mine with conditions.

Docket No.: M-2000-033-C.

FR Notice: 65 FR 31612.

Petitioner: Sidney Coal Company, Inc.

Regulation Affected: 30 CFR 75.1002.

Summary of Findings: Petitioner's proposal is to use 4,160-volt longwall face equipment, and submit proposed revisions for its approved Part 48 training plans to the District Manager that would specify initial and refresher training. This is considered an acceptable alternative method for the Rockhouse Energy Mining Company Mine No. 1. MSHA grants the petition for modification for the Rockhouse Energy Mining Company, Mine No. 1 with conditions.

Docket No.: M-2000-043-C.

FR Notice: 65 FR 31610.

Petitioner: Elk Run Coal Company, Inc.

Regulation Affected: 30 CFR 75.1002.

Summary of Findings: Petitioner's proposal is to use continuous mining machines with nominal voltage of the power circuits not to exceed 2,300 volts in its March 29, 2000, petition for modification. The petitioner amended its petition for modification in May 2000 and requested the stipulations to be changed to use 2,400-volt high-voltage continuous mining machines. This is considered an acceptable alternative method for the Castle Mine. MSHA grants the petition for modification for the 2,400-volt continuous miner(s) used at the Castle Mine with conditions.

Docket No.: M-2000-045-C.

FR Notice: 65 FR 31611.

Petitioner: Roberts Bros. Coal Company.

Regulation Affected: 30 CFR 75.701.

Summary of Findings: Petitioner's proposal is to use a 200KW, 480-volt, diesel powered generator set with an approved diesel drive engine to move equipment in and out of the mine and to perform rehabilitation work in areas outby section loading points. This is considered an acceptable alternative method for the Cardinal #2 Mine. MSHA grants the petition for modification for the Cardinal #2 Mine with conditions.

Docket No.: M-2000-047-C.

FR Notice: 65 FR 40141.

Petitioner: Bowie Resources, Ltd.

Regulation Affected: 30 CFR 75.701.

Summary of Findings: Petitioner's proposal is to use a 460KW, 480-volt, wye connected diesel powered generator for utility power and to move electrically powered mining equipment throughout the mine. This is considered an acceptable alternative method for the Bowie Mine. MSHA grants the petition for modification for the Bowie Mine with conditions.

Docket No.: M-2000-055-C.

FR Notice: 65 FR 40142.

Petitioner: RAG Cumberland Resources LP.

Regulation Affected: 30 CFR 75.1002.

Summary of Findings: Petitioner's proposal is to request that Item 29 of its previously granted petition for modification (M-92-99-C), be amended to allow the widths and lengths of its panels to be increased; and that Item 31 be amended to allow a primary escapeway maintained in accordance with 30 CFR 75.380 be provided on the headgate end of all longwall panels. This is considered an acceptable alternative method for the Cumberland Mine. MSHA grants the petition for modification for the Cumberland Mine with conditions.

Docket No.: M-2000-088-C.

FR Notice: 65 FR 49017.

Petitioner: Elk Run Coal Company, Inc.

Regulation Affected: 30 CFR 75.1700.

Summary of Findings: Petitioner's proposal is to plug and mine through oil and gas wells. This is considered an acceptable alternative method for the White Knight Mine. MSHA grants the petition for modification for mining through or near (whenever the safety barrier diameter is reduced to a distance less than the District Manager would approve pursuant to § 75.1700) plugged oil or gas wells penetrating the Powellton Coal Seam and other mineable coal seams using continuous mining methods for the White Knight Mine with conditions.

Docket No.: M-2000-089-C.

FR Notice: 65 FR 49017.

Petitioner: Elk Run Coal Company, Inc.

Regulation Affected: 30 CFR 75.1700.

Summary of Findings: Petitioner's proposal is to plug and mine through oil and gas wells. This is considered an acceptable alternative method for the Castle Mine. MSHA grants the petition for modification for mining through or near (whenever the safety barrier diameter is reduced to a distance less than the District Manager would approve pursuant to § 75.1700) plugged oil or gas wells penetrating the Powellton Coal Seam and other mineable coal seams using continuous mining methods for the Castle Mine with conditions.

Docket No.: M-2000-090-C.

FR Notice: 65 FR 49018.

Petitioner: Elk Run Coal Company, Inc.

Regulation Affected: 30 CFR 75.350.

Summary of Findings: Petitioner's proposal is to use air that is coursed through belt haulage entries to ventilate active working places and install a low-level carbon monoxide detection system as an early warning fire detection system in all belt entries at certain locations. This is considered an acceptable alternative method for the Castle Mine. MSHA grants the petition for modification for the Castle Mine with conditions.

Docket No.: M-2000-091-C.

FR Notice: 65 FR 49018.

Petitioner: Freeman United Coal Mining Company.

Regulation Affected: 30 CFR 75.1909(b)(6).

Summary of Findings: Petitioner's proposal is to use a diesel-grader without front wheel brakes, limit the diesel-grader speed to a maximum speed of 10 miles per hour, lower the grader blade (mold board) to increase stopping capability in emergencies, and provide training for the grader operators on how to recognize appropriate levels of speed for different road and slope conditions. This is considered an acceptable alternative method for the Crown III Mine. MSHA grants the petition for modification for the Crown III Mine with conditions.

Docket No.: M-2000-094-C.

FR Notice: 65 FR 49018.

Petitioner: Elk Run Coal Company, Inc.

Regulation Affected: 30 CFR 75.1002.

Summary of Findings: Petitioner's proposal is to use high-voltage (4,160-volts) longwall mining equipment at the face. This is considered an acceptable alternative method for the Castle Mine. MSHA grants the petition for modification for the Castle Mine with conditions.

Docket No.: M-2000-095-C.

FR Notice: 65 FR 58818.

Petitioner: Blue Mountain Energy, Inc.

Regulation Affected: 30 CFR 75.1902(c)(2)(i), (ii), (iii).

Summary of Findings: Petitioner's proposal is to store the temporary diesel transportation unit (the unit) no more than 5 cross-cuts from the loading point, or projected loading point during installation, and the last loading point during equipment removal. This is considered an acceptable alternative method for the Deserado Mine. MSHA grants the petition for modification for the Deserado Mine with conditions. The petitioner filed a petition on June 8, 2000, seeking modification of 30 CFR 75.1902(2)(i), (ii), and (iii). On October 30, 2000, the petitioner filed an amended petition to more accurately reflect the current standard 30 CFR 75.1902(c)(2)(i), (ii) and (iii).

Docket No.: M-2000-098-C.

FR Notice: 65 FR 58818.

Petitioner: Black Beauty Coal Company.

Regulation Affected: 30 CFR 75.350.

Summary of Findings: Petitioner's proposal is to use intake air off the belt and neutral entries to ventilate working sections. This considered an acceptable alternative method for the Air Quality #1 Mine. MSHA grants the petition for modification to allow air coursed through conveyor belt entries to be used to ventilate working places for the Air Quality #1 Mine with conditions.

Docket No.: M-2000-099-C.

FR Notice: 65 FR 58818.

Petitioner: San Juan Coal Company.

Regulation Affected: 30 CFR 75.500(d).

Summary of Findings: Petitioner's proposal is to use non-permissible low-voltage or battery powered electronic testing and diagnostic equipment such as lap top computers, oscilloscopes, vibration analysis machines, cable fault detectors, point temperature probes, infrared temperature devices and recorders, pressure and flow measurement devices, signal analyzer devices ultrasonic thickness gauges, electronic component testers, electronic tachometers and battery operated drills, in or inby the last open crosscut. This is considered an acceptable alternative method for the San Juan South Mine and the San Juan Deep Mine. MSHA grants the petition for modification for the San Juan South Mine and the San Juan Deep Mine with conditions.

Docket No.: M-2000-100-C.

FR Notice: 65 FR 58818.

Petitioner: Black Beauty Coal Company.

Regulation Affected: 30 CFR 75.350.

Summary of Findings: Petitioner's proposal is to use intake air off the belt and neutral entries to ventilate working sections. This considered an acceptable alternative method for the Vermilion Grove Mine. MSHA grants the petition for modification to allow air coursed through conveyor belt entries to be used to ventilate working places for the Vermilion Grove Mine with conditions.

Docket No.: M-2000-101-C.

FR Notice: 65 FR 58818.

Petitioner: Genwal Resources, Inc.

Regulation Affected: 30 CFR 75.701.

Summary of Findings: Petitioner's proposal is to use a 480-volt, wye connected, 320 KW portable diesel powered generator for utility power and to move electrically powered mining equipment in and around the mine. This is considered an acceptable alternative method for the Crandall Canyon Mine. MSHA grants the petition for the modification 480-volt, three-phase, 320KW diesel powered generator (DPG) set, Serial No. 31545, used to supply power to a 400 KVA autotransformer and the three-phase 480- and 995-volt power circuits for the Crandall Canyon Mine with conditions.

Docket No.: M-2000-102-C.

FR Notice: 65 FR 58819.

Petitioner: Genwal Resources, Inc.

Regulation Affected: 30 CFR 75.901.

Summary of Findings: Petitioner's proposal is to use a 480-volt, wye connected, 320 KW portable diesel powered generator for utility power and to move electrically powered mining equipment in and around the mine. This is considered an acceptable alternative method for the Crandall Canyon Mine. MSHA grants the petition for the modification 480-volt, three-phase, 320KW diesel powered generator (DPG) set, Serial No. 31545, used to supply power to a 400 KVA auto-transformer and the three-phase 480- and 995-volt power circuits for the Crandall Canyon Mine with conditions.

Docket No.: M-2000-103-C.

FR Notice: 65 FR 58819.

Petitioner: West Ridge Resources, Inc.

Regulation Affected: 30 CFR 75.701.

Summary of Findings: Petitioner's proposal is to use a 480-volt, wye connected, 320 KW portable diesel powered generator for utility power and to move electrically powered mining equipment in and around the mine. This is considered an acceptable alternative method for the West Ridge Mine. MSHA grants the petition for the modification 480-volt, three-phase, 320KW diesel powered generator (DPG) set, Serial No. 31545, used to supply power to a 400 KVA auto-transformer and the three-phase 480- and 995-volt power circuits for the West Ridge Mine with conditions.

Docket No.: M-2000-105-C.

FR Notice: 65 FR 58819.

Petitioner: Gibson County Coal, LLC.

Regulation Affected: 30 CFR 75.1700.

Summary of Findings: Petitioner's proposal is to plug and mine through oil and gas wells using specific procedures listed in the petition for modification. This is considered an acceptable alternative method for the Gibson Mine. MSHA grants the petition for modification for mining through or near (whenever the safety barrier diameter is reduced to a distance less than the District Manager would approve pursuant to § 75.1700) plugged oil or gas wells penetrating the Kentucky No. 9 (Illinois No. 5) seam and other mineable coal seams for the Gibson Mine with conditions.

Docket No.: M-2000-106-C.

FR Notice: 65 FR 58819.

Petitioner: San Juan Coal Company.

Regulation Affected: 30 CFR 75.1700.

Summary of Findings: Petitioner's proposal is to plug and through oil and gas wells within a 300 foot diameter of abandoned oil and gas wells using the specific procedures outlined in its petition for modification. This is considered an acceptable alternative method for the San Juan South Mine and the San Juan Deep Mine. MSHA grants the petition for modification for mining through or near (whenever the safety barrier diameter is reduced to a distance less than the District Manager would approve pursuant to § 75.1700) plugged oil or gas wells penetrating the Fruitland No. 8 Coal Seam and other mineable coal seams for the San Juan South Mine and the San Juan Deep Mine with conditions.

Docket No.: M-2000-107-C.

FR Notice: 65 FR 58819.

Petitioner: Sidney Coal Company, Inc.

Regulation Affected: 30 CFR 75.1700.

Summary of Findings: Petitioner's proposal is to plug and through oil and gas wells within a 300 foot diameter of abandoned oil and gas wells using the specific procedures outlined in its petition for modification. This is considered an acceptable alternative method for the Rockhouse Energy Mining Company Mine No. 1. MSHA grants the petition for modification for mining through or near (whenever the safety barrier diameter is reduced to a distance less than the District Manager would approve pursuant to § 75.1700) plugged oil or gas wells penetrating the Cedar Grove Coal Seam and other mineable coal seams using continuous miners, conventional mining or longwall mining methods. This is considered an acceptable alternative method for the Rockhouse Energy Mining Company Mine No. 1. MSHA grants the petition for modification for the Rockhouse Energy Mining Company Mine No. 1 with conditions.

Docket No.: M-2000-108-C.

FR Notice: 65 FR 58819.

Petitioner: San Juan Coal Company.

Regulation Affected: 30 CFR 75.1002-1(a).

Summary of Findings: Petitioner's proposal is to use permissible low-voltage or battery powered electronic testing and diagnostic equipment such as lap top computers, oscilloscopes, vibration analysis machines, cable fault detectors, point temperature probes, infrared temperature devices insulation testers (meggers), voltage, current, and power measurement devices, signal analyzer devices, ultrasonic thickness gauges, electronic component testers, electronic tachometers and may use other testing and diagnostic equipment if approved by the District Manager. This is considered an acceptable alternative method for the San Juan South Mine and San Juan Deep Mine. MSHA grants the petition for modification for the use of low-voltage or battery-powered non-permissible electronic testing and diagnostic equipment within 150 feet of pillar workings for the San Juan South Mine and San Juan Deep Mine with conditions.

Docket No.: M-2000-117-C.

FR Notice: 65 FR 58820.

Petitioner: Genwal Resources, Inc.

Regulation Affected: 30 CFR 75.1002-1(a).

Summary of Findings: Petitioner's proposal is to use nonpermissible low-voltage or battery powered electronic testing and diagnostic equipment such as lap top computers, oscilloscopes, vibration analysis machines, cable fault detectors, point temperature probes, infrared temperature devices and recorders, pressures and flow measurement devices, signal analyzer devices, ultrasonic thickness gauges, electronic component testers, electronic techometers, inby the last open crosscut, and may use other equipment approved by the District Manager. This is considered an acceptable alternative method for the Crandall Canyon Mine. MSHA grants the petition for modification for the use of low-voltage or battery-powered nonpermissible equipment with 150 feet of pillar, under controlled conditions at the Crandall Canyon Mine with conditions.

Docket No.: M-2000-124-C.

FR Notice: 65 FR 64261.

Petitioner: Parkwood Resources, Inc.

Regulation Affected: 30 CFR 75.100-2(e)(2).

Summary of Findings: Petitioner's proposal is to use two (2) fire extinguishers or one fire extinguisher of twice the required capacity at all temporary electrical installations instead of using 240 pounds of rock dust. This is considered an acceptable alternative method for the Parkwood Mine. MSHA grants the petition for modification for the temporary electrical installations provided the petitioner maintains two portable fire extinguishers having at least the minimum capacity specified for portable fire extinguisher in 30 CFR 75.1100-1(e) at each of the temporary electrical installations at the Parkwood Mine with conditions.

Docket No.: M-2000-129-C.

FR Notice: 65 FR 64261.

Petitioner: Girdner Mining Company, Inc.

Regulation Affected: 30 CFR 75.342.

Summary of Findings: Petitioner's proposal is to use hand-held continuous-duty methane and oxygen indicators on three-wheel tractors with drag bottom buckets used to load and haul coal from the mine face, but approximately 20 percent of the time they are also used to haul supplies and as a mantrip vehicle. This is considered an acceptable alternative method for the Mine #1. MSHA grants the petition for modification for the Mescher permissible three-wheel battery-powered tractors used to load coal at the Mine #1 with conditions.

Docket No.: M-2000-138-C.

FR Notice: 65 FR 75973.

Petitioner: Black Beauty Coal Company.

Regulation Affected: 30 CFR 75.1002.

Summary of Findings: Petitioner's proposal is to use high-voltage (2,400-volt) trailing cables inby the last open crosscut at the working continuous miner section(s) g equipment. This is considered an acceptable alternative method for the Riola #1 Mine. MSHA grants the petition for modification for the 2,400-volt continuous miner(s) at the Riola #1 Mine with conditions.

Docket No.: M-2000-142-C.

FR Notice: 65 FR 64261.

Petitioner: D & A Resources, Inc.

Regulation Affected: 30 CFR 75.503.

Summary of Findings: Petitioner's requests is for the Proposed Decision and Order for its previously granted petition for modification, docket number M-96-096-C, be amended to allow the terms and conditions to be used at locations other than the No. 3 bleeder shaft at the Emerald Mine. This is considered an acceptable alternative method for the Emerald Mine #1. MSHA grants the petition for modification for the submersible pumps installed in the No. 3 and No. 4 bleeder shafts and No. 6 return shafts and all future return and/or bleeder shafts in the Emerald Mine No. 1 with conditions.

Docket No.: M-2000-144-C.

FR Notice: 65 FR 75974.

Petitioner: McCoy Elkhorn Coal Corp.

Regulation Affected: 30 CFR 75.503 (18.41(f) of part 18).

Summary of Findings: Petitioner's proposal is to use a permanently installed spring-loaded locking device on mobile battery-powered machines in lieu of padlocks to prevent the battery plugs from accidentally separating from their receptacles, and to eliminate the hazards associated with difficult removal of padlocks during emergency situations. This is considered an acceptable alternative method for the Mine No. 14, Mine No. 16, Mine No. 21, and Smithfork Mine No. 1. MSHA grants the petition for modification for the Mine No. 14, Mine No. 16, Mine No. 21, and Smithfork Mine No. 1 with conditions.

Docket No.: M-2000-145-C.

FR Notice: 65 FR 75974.

Petitioner: Ohio County Coal Corporation.

Regulation Affected: 30 CFR 75.503 (18.41(f) of part 18).

Summary of Findings: Petitioner's proposal is to use a spring-loaded device with specific fastening characteristics instead of a padlock to secure plugs and electrical type connectors to batteries and to the permissible mobile powered equipment the batteries serve, to prevent battery plugs from accidentally separating from their receptacles during normal operation of the battery equipment. This is considered an acceptable alternative method for the Freedom Mine. MSHA grants the petition for modification for the Freedom Mine with conditions.

Docket No.: M-2000-147-C.

FR Notice: 65 FR 75975.

Petitioner: Gibson County Coal, LLC.

Regulation Affected: 30 CFR 75.701.

Summary of Findings: Petitioner's proposal is to use a 200 KW/250 KVA, 480-volt, diesel powered generator set to move equipment in and out of the mine(s) and to move equipment underground in emergency situations. This is considered an acceptable alternative method for the 480-volt, three-phase, 200KW diesel powered generator (DPG)set, supplying power to a 250 KVA three-phase transformer and three-phase 480- and 995-volt power circuits at the Gibson Mine. MSHA grants the petition for modification for the Gibson Mine with conditions.

Docket No.: M-2000-150-C.

FR Notice: 65 FR 75975.

Petitioner: D & F Deep Mine Buck Drift.

Regulation Affected: 30 CFR 75.1100-2(a)(2).

Summary of Findings: Petitioner's proposal is to use two (2) fire extinguishers or one fire extinguisher of twice the required capacity at all temporary electrical installations instead of using 240 pounds of rock dust. This is considered an acceptable alternative method for the Buck Drift Mine. MSHA grants the petition for modification for the Buck Drift Mine with conditions.

Docket No.: M-2000-153-C.

FR Notice: 65 FR 75975.

Petitioner: Shamrock Coal Company.

Regulation Affected: 30 CFR 75.1700.

Summary of Findings: Petitioner's proposal is to plug and mine through a plugged oil and gas the well located adjacent to longwall gate entries and within a proposed longwall mining panel. This is considered an acceptable alternative method for the Shamrock #18 Series Mine. MSHA grants the petition for modification for mining through or near (whenever the safety barrier diameter is reduced to a distance less than the District Manager would approve pursuant to § 75.1700) plugged oil or gas wells penetrating the hazard No. 4 Coal Seam and other mineable coal seams at the Shamrock #18 Series Mine with conditions.

[FR Doc. 01-26327 Filed 10-18-01; 8:45 am]

BILLING CODE 4510-43-P